ENVIRONMENTAL PROTECTION AGENCY

40 CFR Parts 60 and 75

[EPA-HQ-OAR-2007-0164, FRL-8459-8]

RIN 2060-AO01

Two Optional Methods for Relative Accuracy Test Audits of Mercury Monitoring Systems Installed on Combustion Flue Gas Streams and Several Amendments to Related Mercury Monitoring Provisions

Correction

In rule document 07-4147 beginning on page 51494 in the issue of Friday, September 7, 2007, make the following corrections:

Appendix A-8 to Part 60 [Corrected]

1. On page 51507, in Appendix A-8 to Part 60, in Method 30A, in section 9.0, in the fourth column of the table, in the tenth line from the bottom of the column, “percentages..” should read “percentages.”.

2. On the same page, in the same appendix, in the same section, in the fifth column of the table, in the third line from the bottom of the column, “initial dynamic” should read “initial run; dynamic”.

3. On page 51508, in the same appendix, in the same section, in the table, entry “A” is corrected to read as follows:

Summary Table of QA/QC Requirements—Continued
Status¹ | Process or element | QA/QC specification | Acceptance criteria | Checking frequency
* * * * * * *
A | Sample Point Selection | Stratification Test (See Section 8.1.3). | If the Hg concentration² at each traverse point during the stratification test is: • Within ±5% of mean, use 1-point sampling (at the point closest to the mean); or • Not within ±5% of mean, but is within ±10% of mean, use 3-point sampling. Locate points according to Section 8.1.3.2.2 of this method. Alternatively, if the Hg concentration at each point is: • Within ±0.2 μg/m³ of mean, use 1-point sampling (at the point closest to the mean); or • Not within ±0.2 μg/m³ of mean, but is within ±0.5 μg/m³ of mean, use 3-point sampling. Locate points according to Section 8.1.3.2.2 of this method. | Prior to first run. Prior to 1/1/09, you may (1) forgo stratification testing and use 3 sampling points (as per Section 8.1.3.2.2) or (2) perform a SO2 stratification test (see Sections 6.5.6.1 and 6.5.6.3 of appendix A to part 75), in lieu of a Hg stratification test. If the test location is unstratified or minimally stratified for SO2, it can be considered unstratified or minimally stratified for Hg also.
* * * * * * *

4. On page 51509, in the same appendix, in section 12.1, in the first column, in the 13th line from the bottom of the column, “Cbaseline” should read “C̄baseline”.

5. On the same page, in the same appendix, in the same section, in the third column, in the 16th line, “%;.” should read “%.”.

6. On the same page, in the same appendix, in the same section, in the same column, in the 17th and 18th lines, “R= Mean value of spike recoveries at a particular target level, %;.” should read “R̄ = Mean value of spike recoveries at a particular target level, %.”.

7. On the same page, in the same appendix, in the same section, in the same column, in the 19th line, “%;.” should read “%.”.

8. On page 51522, in the same appendix, in Method 30B, in section 9.0, in the table, in the second column, in the last two lines of the column, “<10% of section 1 Hg mass for Hg concentrations > 1 μg/dscm;.” should read “≤10% of section 1 Hg mass for Hg concentrations > 1 μg/dscm;”.

Appendix B to Part 60 [Corrected]

9. On page 51527, in Appendix B to Part 60, in the second column, in section 8.6.6.1, in the third line “Eq. 12A-1” should read “(Eq. 12A-1)”.

Appendix K to Part 75 [Corrected]

10. On page 51530, in Appendix K to Part 75, in section 8.0, in the table, in the third column, in the 13th line, “analyzing field.” should read “analyzing field samples.”.

11. On the same page, in the same appendix, in the same section, in the same table, in the fourth column, in the third line, “Sample check invalidated” should read “Sample invalidated”.

12. On the same page, in the same appendix, in the same section, in the same table, in the same column, in the 12th and 13th lines, “analysis samples until successful” should read “analysis until successful”.

[FR Doc. C7-4147 Filed 9-27-07; 8:45 am]

BILLING CODE 1505-01-D

DEPARTMENT OF HOMELAND SECURITY

U.S. Customs and Border Protection

[USCBP-2006-0021; CBP Dec. 07-78]

Interpretive Rule Concerning Classification of Unisex Footwear

Correction

In notice document E7-18588 beginning on page 53790 in the issue of Thursday, September 20, 2007 make the following correction:

On page 53790, in the first column, in the ACTION heading, “Final interpretion” should read “Final interpretation”.

[FR Doc. Z7-18588 Filed 9-27-07; 8:45 am]

BILLING CODE 1505-01-D